DEPARTMENT OF ENERGY

Federal Energy Regulatory Commission

[Docket No. CP19-118-000]

Trans-Foreland Pipeline Company, LLC; Notice Suspending Environmental Review Schedule

The Federal Energy Regulatory Commission (FERC or Commission) is suspending the environmental review schedule for Trans-Foreland Pipeline Company, LLC's (Trans-Foreland) application for the Kenai LNG Cool Down Project in Nikiski, Alaska. The notice of revised schedule, issued on December 12, 2019, identified an April 24, 2020 environmental assessment (EA) issuance date. This schedule was based upon Trans-Foreland providing complete and timely responses to any data requests. In its March 18, 2020 response to FERC staff's March 3, 2020 data request, Trans-Foreland stated it was pursuing an equivalency determination from the United States Department of Transportation's Pipeline and Hazardous Material Safety Administration (PHMSA) pertaining to the trim vaporizer it proposes to locate within the liquefied natural gas (LNG) storage tank impoundment area.¹

¹ While PHMSA issued a letter of determination (LOD) on March 25, 2020 that addresses the siting of LNG facilities, including the vaporizer, under Subpart B of its regulations, the LOD does not address Trans-Foreland's March 17, 2020 equivalency determination request.

Because the PHMSA equivalency determination is necessary for completion of the EA, the Commission will suspend the environmental review schedule for the project. Once staff has reviewed the PHMSA equivalency determination, FERC will issue an additional revised schedule for the EA. This is not a suspension of the FERC staff's review of Trans-Foreland's project. Staff will continue to process Trans-Foreland's proposal to the extent possible based upon the information it has filed to date.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP19-118), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: April 8, 2020.
Kimberly D. Bose,
Secretary.

[FR Doc. 2020-07812 Filed 4-13-20; 8:45 am]

BILLING CODE 6717-01-P